DEPARTMENT OF TRANSPORTATION

Maritime Administration

[Docket No. DOT-MARAD-2014-0062]

Agency Requests for Renewal of a Previously Approved Information Collection(s): Generic Clearance for the Collection of Qualitative Feedback on Agency Service Delivery

AGENCY: Maritime Administration, DOT.

ACTION: Notice and request for comments.

SUMMARY: The Department of Transportation (DOT) invites public comments about our intention to request the Office of Management and Budget (OMB) approval to renew an information collection. The collection involves collecting, analyzing, and interpreting information to identify strengths and weaknesses of current services and make improvements in service delivery based on feedback. If this information is not collected, vital feedback from customers and stakeholders on the Agency's services will be unavailable. We are required to publish this notice in the Federal Register by the Paperwork Reduction Act of 1995, Public Law 104-13.

DATES: Written comments should be submitted by June 23, 2014.

ADDRESSES: You may submit comments [identified by Docket No. DOT-MARAD-2014-0062] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Barbara Jackson, 202-366-0615, Office of Management and Administrative Services, Maritime Administration, U.S. Department of Transportation, 1200 New Jersey Avenue SE., Washington, DC 20590.

SUPPLEMENTARY INFORMATION:

OMB Control Number: 2133-0543.

Title: Generic Clearance for the Collection of Qualitative Feedback on Agency Service Delivery.

Form Numbers: N/A.

Type of Review: Renewal of a previously approved information collection.

Background: This collection of information is necessary to enable the Agency to garner customer and stakeholder feedback in an efficient, timely manner, in accordance with our commitment to improving service delivery. The information collected from our customers and stakeholders will help ensure that users have an effective, efficient, and satisfying experience with the Agency's programs. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Respondents: Individuals and Households, Businesses and Organizations, State, Local or Tribal Government.

Number of Respondents: 8696.

Frequency: Once per request.

Number of Responses: 8696.

Total Annual Burden: 1449.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1.93.

Date: April 15, 2014.
Julie P. Agarwal,
Secretary, Maritime Administration.

[FR Doc. 2014-09025 Filed 4-22-14; 8:45 am]

BILLING CODE 4910-81-P